NATIONAL SCIENCE FOUNDATION

Sunshine Act Meeting; National Science Board

The National Science Board's Committee on Education and Human Resources (CEH), pursuant to NSF regulations (45 CFR part 614), the National Science Foundation Act, as amended (42 U.S.C. 1862n-5), and the Government in the Sunshine Act (5 U.S.C. 552b), hereby gives notice of the scheduling of a teleconference for the transaction of National Science Board business, as follows:

DATE AND TIME: Wednesday, February 17, 2016 at 5:00-6:00 p.m. EST.

SUBJECT MATTER: Committee Chair's opening remarks; approval of minutes of November 19, 2015 meeting; update and discussion of recent CEH activities regarding the “grand challenges in STEM” activity; and Committee Chair's closing remarks.

STATUS: Open.

This meeting will be held by teleconference. A public listening line will be available. Members of the public must contact the Board Office (call 703-292-7000 or send an email message to nationalsciencebrd@nsf.gov) at least 24 hours prior to the teleconference for the public listening number. Please refer to the National Science Board Web site for additional information and schedule updates (time, place, subject matter or status of meeting) which may be found at http://www.nsf.gov/nsb/notices/. Point of contact for this meeting is Matt Wilson (mbwilson@nsf.gov).

Kyscha Slater-Williams,
Program Specialist to the National Science Board.

[FR Doc. 2016-03126 Filed 2-11-16; 11:15 am]

BILLING CODE 7555-01-P